DEPARTMENT OF TRANSPORTATION

Federal Aviation Administration

14 CFR Part 39

[Docket No. FAA-2004-19757; Directorate Identifier 2001-NM-273-AD; Amendment 39-14024; AD 2005-06-14]

RIN 2120-AA64

Airworthiness Directives; British Aerospace Model BAe 146 and Model Avro 146-RJ Series Airplanes

AGENCY: Federal Aviation Administration (FAA), Department of Transportation (DOT).

ACTION: Final rule; correction.

SUMMARY: The FAA is correcting a typographical error in an existing airworthiness directive (AD) that was published in the Federal Register on March 28, 2005 (70 FR 15574). The error resulted in an incorrect AD number. This AD applies to certain British Aerospace Model BAe 146 and Model Avro 146-RJ series airplanes. This AD requires repetitive inspections for cracking of the outer links on the main landing gear side stays, and corrective actions if necessary. This AD also provides for optional terminating action for the repetitive inspections.

DATES: Effective May 2, 2005.

ADDRESSES: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19757; the directorate identifier for this docket is 2001-NM-273-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: On March 14, 2005, the FAA issued AD 2005-06-14, amendment 39-14024 (70 FR 15574, March 28, 2005), for certain Model BAe 146 and Avro 146-RJ series airplanes. This AD requires repetitive inspections for cracking of the outer links on the main landing gear side stays, and corrective actions if necessary. This AD also provides for optional terminating action for the repetitive inspections.

As published, the AD number of the final rule is incorrectly cited in the product identification section of the preamble and the regulatory information of the final rule. In the regulatory text, that AD reads “2005-06-04” instead of “2005-06-14.”

No other part of the regulatory information has been changed; therefore, the final rule is not republished in the Federal Register.

The effective date of this AD remains May 2, 2005.

PART 39—AIRWORTHINESS DIRECTIVES

§ 39.13 [Corrected]

In the Federal Register of March 28, 2005, on page 15576, in the first column, the product identification line of AD 2005-06-04 is corrected to read as follows:

* * * * *

2005-06-14 BAE Systems (Operations) Limited (Formerly British Aerospace Regional Aircraft): Amendment 39-14024. Docket No. FAA-2004-19757; Directorate Identifier 2001-NM-273-AD.

* * * * *

Issued in Renton, Washington, on April 5, 2005.
Kalene C. Yanamura,
Acting Manager, Transport Airplane Directorate, Aircraft Certification Service.

[FR Doc. 05-7483 Filed 4-13-05; 8:45 am]

BILLING CODE 4910-13-P